DEPARTMENT OF LABOR

Employment and Training Administration

[TA-W-50,122]

FCI USA, Inc., Communications, Data, and Consumer Division (CDC), Fiber Optics Group, a Member of the Areva Group, Etters, PA; Notice of Revised Determination on Reconsideration

On February 19, 2003, the Department issued an Affirmative Determination Regarding Application on Reconsideration applicable to workers and former workers of the subject firm. The notice will soon be published in the Federal Register.

The Department initially terminated the investigation on behalf of workers of FCI USA, Inc., Communications, Data, and Consumer Division (CDC), Fiber Optics Group, a member of the Areva Group, Etters, Pennsylvania because the Department had recently issued negative determinations applicable to the petitioning group of workers on September 20, 2002 (TA-W-41,571).

On reconsideration, the Department conducted a survey of the major customers of the subject firm regarding their purchases of electrical and fiber optic connectors during the relevant period. The survey revealed that a major customer increased their imports, while decreasing their purchases from the subject firm during the relevant period.

Conclusion

After careful review of the additional facts obtained on reconsideration, I conclude that increased imports of articles like or directly competitive with electrical and fiber optic connectors, contributed importantly to the declines in sales or production and to the total or partial separation of workers of FCI USA, Inc., Communications, Data, and Consumer Division (CDC), Fiber Optics Group, a member of the Areva Group, Etters, Pennsylvania. In accordance with the provisions of the Act, I make the following certification:

All workers of FCI USA, Inc., Communications, Data, and Consumer Division (CDC), Fiber Optics Group, a member of the Areva Group, Etters, Pennsylvania, engaged in the production of electrical and fiber optic connectors, who became totally or partially separated from employment on or after November 14, 2001 through two years from date of certification are eligible to apply for adjustment assistance under Section 223 of the Trade Act of 1974.

Signed in Washington, DC this 26th day of March 2003.
Edward A. Tomchick,
Director, Division of Trade Adjustment Assistance.

[FR Doc. 03-8852 Filed 4-9-03; 8:45 am]

BILLING CODE 4510-30-P